NUCLEAR REGULATORY COMMISSION

[Docket No. 70-3103; NRC-2024-0225]

Louisiana Energy Services, LLC, dba Urenco USA; National Enrichment Facility; Environmental Assessment and Finding of No Significant Impact

AGENCY: Nuclear Regulatory Commission.

ACTION: Notice; issuance.

SUMMARY: The U.S. Nuclear Regulatory Commission (NRC) is considering an amendment of Special Nuclear Materials (SNM) License No. SNM-2010, issued to Louisiana Energy Services, LLC, dba Urenco USA (UUSA), for the operation of the Urenco USA uranium enrichment facility in Eunice, New Mexico. The amendment would remove license condition (LC) 14 from the license. Removal of the license condition (the NRC's proposed action) would allow UUSA to ship depleted uranium hexafluoride (DUF6) to a certain type of deconversion facility. For this proposed action, the NRC staff is issuing an environmental assessment (EA) and finding of no significant impact (FONSI).

DATES: The EA and FONSI referenced in this document are available on June 10, 2025.

ADDRESSES: Please refer to Docket ID NRC-2024-0225 when contacting the NRC about the availability of information regarding this document. You may obtain publicly available information related to this document using any of the following methods:

• Federal Rulemaking Website: Go to https://www.regulations.gov and search for Docket ID NRC-2024-0225. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christine Pineda, Office of Nuclear Material Safety and Safeguards, U.S. Nuclear Regulatory Commission, Washington, DC 20555-0001; telephone: 301-415-6789; email: Christine.Pineda@nrc.gov.

SUPPLEMENTARY INFORMATION:

I. Introduction

The NRC is considering an amendment of UUSA's License No. SNM-2010 for the operation of the UUSA uranium enrichment facility in Eunice, New Mexico. If approved, the amendment would allow UUSA to ship DUF6 to a type of deconversion facility that produces anhydrous hydrogen fluoride (AHF) as a byproduct. As required in § 51.21 of title 10 of the Code of Federal Regulations (10 CFR), “Criteria for and identification of licensing and regulatory actions requiring environmental assessments,” the NRC developed an EA for the proposed license amendment. Based on the results of the EA summarized in this notice, the NRC has determined not to prepare an environmental impact statement for the amendment and is issuing a FONSI.

II. Summary of Environmental Assessment

Description of the Proposed Action

The proposed NRC action is to remove LC 14 from the license, thereby authorizing UUSA to ship DUF6 to a deconversion facility that uses a process involving the production of AHF, though at this time in the U.S. no such facility exists. If approved, the license amendment would not affect UUSA's enrichment operations and would not result in the construction of new facilities or modifications to existing buildings.

The proposed action is in accordance with the licensee's application dated September 1, 2023, as supplemented by letter dated February 6, 2025.

Need for the Proposed Action

The purpose of amending licensing SNM-2010 to remove LC 14 is to allow UUSA another option for the disposition of DUF6. If the NRC removes LC 14, and if a deconversion facility that produces AHF is constructed, UUSA could ship DUF6 to this type of facility for processing.

Environmental Impacts of the Proposed Action

The NRC staff assessed the potential environmental impacts from the proposed license amendment on land use, historic and cultural resources, visual and scenic resources, air quality, geology and soils, water resources, ecological resources, socioeconomics, noise, transportation, public and occupational health, and waste management. The NRC staff determined that the proposed action would not affect most resource areas and would not have significant impacts on public and occupational health or transportation. The only difference in effects would be a shipping difference, because DUF6 could be shipped to an AHF-producing deconversion facility instead of to a facility that produces aqueous hydrogen fluoride (such as the U.S. Department of Energy [DOE] facilities in Portsmouth, Ohio, and Paducah, Kentucky). As such, approval of the proposed license amendment would not affect operations at the UUSA facility, and occupational dose estimates associated with the facility would continue to be as low as reasonably achievable and fall within the limits identified in 10 CFR 20.1201. The NRC's EA provides a discussion of the potential effects associated with AHF production at a hypothetical deconversion facility. The EA describes how AHF might be produced and discusses the potential health effects of an AHF exposure.

The NRC staff's safety evaluation for this proposed action addresses the potential impacts of transporting DUF6 to a hypothetical deconversion facility that produces AHF and of shipping AHF from a deconversion facility. UUSA would not be involved in the shipments of AHF product from the deconversion facility. The NRC staff concluded that the potential impacts of DUF6 shipments to the site of the proposed International Isotopes deconversion facility in Lea County would not be significant. Likewise, the safety review concluded that the potential impacts of transporting AHF product from a deconversion facility during normal operations would not be significant.

Environmental Impacts of the Alternatives to the Proposed Action

As an alternative to the proposed license amendment, the NRC staff considered taking no action, which would leave LC 14 in effect in the license. If the condition remains in effect, UUSA would not be able to ship DUF6 to a deconversion facility that produces AHF. As long as no such deconversion facility exists in the U.S., the impacts of not removing the license condition would be the same as the near-term reasonably foreseeable impacts of removing the license condition. That is, UUSA would continue to store DUF6 containers onsite and could choose to ship some DUF6 to a deconversion facility that produces aqueous hydrogen fluoride. If a deconversion facility producing AHF becomes operational in the future, UUSA would not be authorized under the no action alternative to ship DUF6 to that facility.

Agencies and Persons Consulted

In accordance with NRC policy, on April 4, 2025, the NRC staff provided a draft of the EA to the State of New Mexico for review. The NRC received no comments from the State.

Under the National Historic Preservation Act (NHPA), the NRC's approval of the license amendment would constitute a Federal undertaking. In reviewing UUSA's application, the NRC staff concluded the proposed action to remove LC 14 is not a type of activity that has the potential to cause effects on any historic properties that may be present. Therefore, following 36 CFR 800.3(a)(1), the NRC has no further obligations under section 106 of the NHPA.

Similarly, under the Endangered Species Act the staff determined that even if endangered or candidate species are present in the vicinity of the UUSA facility, the proposed removal of LC 14 would not affect such species or their habitats. The proposed action would not result in construction or land disturbance and operations would continue inside existing buildings. Therefore, the NRC has determined that no further consultation is required under section 7 of the Endangered Species Act.

III. Finding of No Significant Impact

The NRC staff reviewed the proposed action in accordance with the requirements of 10 CFR part 51. The NRC staff concludes that approval of UUSA's request to remove LC 14 would not significantly affect the quality of the human environment. As described in section 4 of the EA, approval of the proposed action would only result in UUSA being allowed another option for shipping DUF6 from the enrichment facility. The license amendment would not result in changes to operations at the facility and would not affect land use, ecological resources, historic and cultural resources, air quality, or water quality; would not result in construction or soil disturbance, changes to noise, chemical or waste management, or visual aspects of the facility; and would not result in staffing changes that could affect socioeconomic resources. The NRC does not expect significant radiological or non-radiological impacts on public and occupational health or from transportation effects associated with shipping DUF6 to a different type of facility.

Therefore, the NRC staff has determined that, pursuant to 10 CFR 51.31, preparation of an environmental impact statement is not required for this proposed action, and pursuant to 10 CFR 51.32, a finding of no significant impact is appropriate. In accordance with 10 CFR 51.32(a)(4), this FONSI incorporates the EA summarized in this notice by reference.

IV. Availability of Documents

The documents identified in the following table are available to interested persons through ADAMS, as indicated.

Document description | ADAMS accession No.
Environmental Assessment for Proposed Removal of Condition 14 from Urenco USA's License for the National Enrichment Facility in Lea County, New Mexico | ML25125A111
Safety Evaluation Report for Proposed Amendment 109—UUSA License Amendment Request LAR 23-07, Revise SNM-2010 to Delete License Condition 14 | ML25119A201
UUSA License Amendment Request LAR 23-07, Revise SNM-2010 to Delete License Condition 14, dated September 1, 2023 | ML23244A191
UUSA Revised Response to Request for Supplemental Information Regarding LAR 23-07, dated February 6, 2025 | ML25038A014
NRC Email to New Mexico Environment Department re: Request for State Review of Draft EA, dated April 4, 2025 | ML25125A247

Dated: June 5, 2025.
For the Nuclear Regulatory Commission.
Robert Sun,
Chief, Environmental Project Management, Branch 2, Division of Rulemaking, Environmental, and Financial Support, Office of Nuclear Material Safety, and Safeguards.

[FR Doc. 2025-10464 Filed 6-9-25; 8:45 am]

BILLING CODE 7590-01-P